DEPARTMENT OF COMMERCE

Economic Development Administration

Notice of Petitions by Producing Firms for Determination of Eligibility To Apply for Trade Adjustment Assistance

AGENCY: Economic Development Administration, Commerce.

ACTION: To Give Firms an Opportunity to Comment.

Petitions have been accepted for filing on the dates indicated from the firms listed below.

List of Petition Action by Trade Adjustment Assistance for Period 7/20/00—8/16/00
Firm name | Address | Date petition accepted | Product
New Holland Lingerie, Inc | 494 W. Broad Street, New Holland, PA 17557 | 07/23/01 | Sportswear for adults and children.
Progressive Metal Manufacturing Company | 1300 Channing, Ferndale, MI 48220 | 07/23/01 | Ferrous and non-ferrous stampings for use in vehicles, i.e., metal brackets, battery boxes, rails, and supports.
Stroh Die Casting Co., Inc | 11123 West Burleigh Street, Milwaukee, WI 53222 | 07/26/01 | Zinc die castings for automatic regulating and controlling instruments and office machines.
Catalina Tool & Mold, Inc | 6230 S. Country Club Road, Tucson, AZ 85706 | 07/26/01 | Plastic injection molds.
Marlock, Inc | 200 Raccoon Valley Road, Maynardville, TN 37807 | 07/30/01 | Mirror frames of polyurethane foam.
Owens & Hurst Lumber Co | 2555 Highway 93 North, Eureka, MT 59917 | 07/30/01 | Dimension lumber, i.e., studs, and furring strips made of Douglas Fir, Larch, Spruce and Lodgepole Pine.
Precision Tool & Die Corp | 1425 Wells Island Road, Shreveport, LA 71107 | 08/06/01 | Saw blade guides for the saw mill industry.
Frankoma Pottery | 2400 Frankoma Road, Sapulpa, OK 74066 | 08/06/01 | Ceramic tableware and accent pieces.
Columbia Fruit | 2526 Dike Road, Woodland, WA 98674 | 08/06/01 | Raspberries.
Woodline Products, Inc | 892 Callendar Blvd., Painesville Twp., OH 44077 | 08/06/01 | Housings for lights for residential and commercial use.
Erath Veneer Corporation of Virginia | 160 Industrial Avenue, Rocky Mount, VA 24151 | 08/06/01 | Veneer panels made from wood logs for use by furniture, panel and door manufacturers.
Shirley Community Service and Development Corp | Route 1, Box Zero, Shirley, AR 72153 | 08/06/01 | Shiitake mushrooms that are log-grown.
Seville Dyeing Co., Inc | 229 First Street, Woonsocket, RI 02895 | 08/06/01 | Synthetic fiber fabrics and cotton blend fabrics for the women's garment industry.
Snake River Brewing Co., Inc | 265 S. Millward, Jackson, WY 83001 | 08/08/01 | Beer.
Genesee Manufacturing Company, Inc | 566 Hollenbeck Street, Rochester, NY 14621 | 08/08/01 | Hollow mill cutting tools usually with carbide tipped blades.
Belco Tool & Manufacturing, Inc | 225 Terrace Street Ext., Meadville, PA 16335 | 08/09/01 | Tool and die for the automotive industry.
Jersey Plastic Molders, Inc | 149-155 Shaw Avenue, Irvington, NJ 07111 | 08/10/01 | Plastic injection molds.
Glass Works WV, L.L.P | 395 U.S. Highway 33 East, Weston, WV 26452 | 08/14/01 | Pressed and blown glass.
Ames Rubber Corporation | 23-47 Ames Boulevard, Hamburg, NJ 07419 | 08/15/01 | Rubber products.
Coolbrook Corporation | 150 Springfield Street, Avilla, MO 64833 | 08/15/01 | Gun cabinets, and entertainment and computer centers.
Remarque Manufacturing Corporation | 35 Research Drive, Hampton, VA 23666 | 08/15/01 | Electronic connectors.
PCB Acquisitions, Inc. dba Pronto Circuits Technologies | 1165 NW 55th Street, Ft. Lauderdale, FL 33309 | 08/16/01 | Printed circuit boards.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the tenth calendar day following the publication of this notice.

(The Catalog of Federal Domestic Assistance official program number and title of the program under which these petitions are submitted is 11.313, Trade Adjustment Assistance.)
Dated: August 17, 2001.
Anthony J. Meyer,
Coordinator, Trade Adjustment and Technical Assistance.

[FR Doc. 01-21402 Filed 8-23-01; 8:45 am]

BILLING CODE 3510-24-P